OFFICE OF THE DIRECTOR OF NATIONAL INTELLIGENCE

Submission for Review: Financial Disclosure Form (SF-714)

AGENCY: Office of the Director of National Intelligence.

ACTION: 60-Day notice and request for comments.

SUMMARY: The Personnel Security Group, Special Security Directorate, National Counterintelligence and Security Center, Office of the Director of National Intelligence (ODNI) offers the general public and other federal agencies the opportunity to comment on an existing information collection request (ICR) SF-714. This request for comment is premised on an extension of the expiration date of the current SF-714 for an additional three years; no changes have been made to the existing form.

DATES: Comments are encouraged and will be accepted until January 31, 2022. This process is conducted in accordance with 5 CFR 1320.1.

ADDRESSES: Interested persons are invited to submit written comments on the proposed information collection to Mr. Gregory Koch, Director, Information Management Office, Chief Operating Officer, ODNI, Washington, DC 20511, Attention: Financial Disclosure Form, Personnel Security Group, Special Security Directorate, National Counterintelligence and Security Center.

SUPPLEMENTARY INFORMATION: In December 2011, the ODNI accepted responsibility from the Information Security Oversight Office (ISOO) to manage the continuation in existence of Standard Form 714: Financial Disclosure Report, in accordance with the responsibilities assigned to the Director of National Intelligence as Security Executive Agent. Pursuant to the responsibilities assigned to the Director of National Intelligence as the Security Executive Agent under E.O. 13467 and the National Security Act (50 U.S.C. 3162a), the SF-714 collects information that is used to assist in making determinations regarding access to specifically designated types of classified information as specified in Section 1.3(c) of E.O. 12968. The data may also be used as a part of a review process to evaluate eligibility or continued eligibility for access to classified information or as evidence in legal proceedings. Information obtained from the SF-714 may also be used to help law enforcement and counterintelligence professionals gather pertinent information in the preliminary stages of potential espionage and/or counterterrorism cases.

As required by the Paperwork Reduction Act of 1995, (Pub. L. 104-13, 44 U.S.C. chapter 35) as amended by the Clinger-Cohen Act (Pub. L. 104-106), ODNI is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Personnel Security Group, Special Security Directorate, the National Counterintelligence and Security Center, Office of the Director of National Intelligence.

Title: Financial Disclosure Report.

OMB Number: 3095-0058.

Agency Form Number: SF-714.

Frequency: Annually.

Affected Public: Individuals or Households.

Number of Respondents: 86,000.

Estimated Time per Respondent: 120 minutes.

Total Burden Hours: 172,000 annually.

Office of the Director of National Intelligence.
Dated: November 24, 2021.
Gregory Koch,
Director, Information Management Office.

[FR Doc. 2021-26120 Filed 11-29-21; 8:45 am]

BILLING CODE 9500-01-P